FEDERAL COMMUNICATIONS COMMISSION

47 CFR Parts 95

[WT Docket No. 01-339; FCC 01-366]

Garmin International, Inc.

AGENCY: Federal Communications Commission.

ACTION: Proposed rule.

SUMMARY: In this Notice of Proposed Rule Making (NPRM), the FCC proposes to amend Commission's rules to authorize Family Radio Service (FRS) units to transmit an additional emission type and to revise the permissible communications rule that applies to FRS units. These rule changes could allow a new and incidental use of the FRS, a short-range two-way voice communication service used by small groups of persons.

DATES: Written comments by the public on the proposed are due on or before February 13, 2002 and reply comments are due on or before February 28, 2002.

ADDRESSES: Federal Communications Commission, Office of the Secretary, Room TW-B204, 445 Twelfth Street, SW., Washington, DC 20554.

FOR FURTHER INFORMATION CONTACT: William Cross, Wireless Telecommunications Bureau, at (202) 418-0691.

SUPPLEMENTARY INFORMATION: This is a summary of the Federal Communications Commission's Notice of Proposed Rule Making, FCC 01-366, adopted on December 12, 2001 and released on December 20, 2001. The full text of this Notice of Proposed Rule Making is available for inspection and copying during normal business hours in the FCC Reference Center, Room CY-A257, 445 12th Street, SW., Washington, DC 20554. The complete text may be purchased from the Commission's copy contractor, Qualex International, 445 12th Street, SW., Room CY-B402, Washington, DC 20554. The full text may also be downloaded at www.fcc.gov. Alternative formats are available to persons with disabilities by contacting Martha Contee at (202) 418-0260 or TTY (202) 418-2555.

1. This NPRM seeks comment on a proposal to amend §§ 95.193(a), 95.193(b), and 95.631(d) of the Commission's rules to authorize Family Radio Service (FRS) units to transmit an additional emission type and to revise the permissible communications rule that applies to FRS units. In its Petition, Garmin International, Inc. (Garmin) proposes to allow FRS units to transmit Global Positioning System (GPS) location information using emission type F2D in a digital data burst of not more than one second. Prior to the submission of the Petition, Garmin sought a waiver (Waiver Request) of §§ 95.193(a), 95.193(b), and 95.631(d) of the Commission's rules to allow it to manufacture and market inexpensive handheld FRS transceivers capable of transmitting GPS location information on FRS channels. The Public Safety and Private Wireless Division (Division) of the Wireless Telecommunications Bureau granted a one-year waiver of the FRS Rules on September 29, 2000. On reconsideration, the Division extended the term of the waiver grant to two years, subject to the resolution of the Petition. We believe that these rule changes could allow a new and incidental use of the FRS, a short-range two-way voice communication service used by small groups of persons. Therefore, we are initiating this rulemaking proceeding to propose a modification of the authorized emission types and permissible communications rules.

Procedural Matters

2. Initial Regulatory Flexibility Certification. The Regulatory Flexibility Act of 1980, as amended (RFA), requires that an initial regulatory flexibility analysis be prepared for notice and comment rule making proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

3. In this NPRM, we propose to authorize an individual to use a FRS unit to satisfy his or her need for non-voice communications for the purpose of providing information about the location of the FRS unit to other FRS units. The proposed rules apply exclusively to individuals who use FRS units. Such modification would be in the public interest because it would allow the public to take advantage of technological developments in equipment and service that have occurred since the authorization of the FRS, availability of equipment at reasonable prices, and the removal of Selective Availability from the GPS signal.

4. In addition, the rules proposed in this NPRM, potentially could affect manufactures of FRS units. Based on requests from manufactures for certification of FRS units, we believe that there are between 5 and 10 manufactures of FRS units and that none of these manufactures are small entities. The proposed rule change, if adopted, applies to individuals who use FRS units and does not result in a mandatory change in manufactured FRS units. Rather, the proposed rule change is permissive and would allow a manufacture, if it so chose, to include additional features in the FRS units it manufactured. Therefore, we certify that the proposals in this NPRM, if adopted, will not have a significant economic impact on a substantial number of small entities. The Commission will send a copy of the NPRM, including a copy of this Initial Regulatory Flexibility Certification, to the Chief Counsel for Advocacy of the SBA. This initial certification will also be published in the Federal Register.

5. Paperwork Reduction Analysis. This NPRM does not contain either a proposed or modified information collection requirement.

6. Ex Parte Rules Presentations. This is a permit-but-disclose notice and comment rulemaking proceeding. Ex parte presentations are permitted, except during the Sunshine Agenda period, provided they are disclosed as provided in the Commission's rules. See generally 47 CFR 1.1202, 1.1203, 1.1206(a).

7. Alternative formats. Alternative formats (computer diskette, large print, audiocassette, and Braille) are available from Brian Millin at (202) 418-7426, TTY (202) 418-7365, or at bmillin@fcc.gov. This NPRM can also be downloaded at http://www.fcc.gov/dtf.

8. Comment Dates. pursuant to sections 1.415 and 1.419 of the Commission's rules, 47 CFR 1.415, 1.419, interested parties may file comments are due on or before February 13, 2002, and reply comments are due on or before February 28, 2002. Comments may be filed using the Commission's Electronic Comment Filing System (ECFS) or by filing paper copies.

9. Comments filed through the ECFS can be sent as an electronic file via the Internet to http://www.fcc.gov/e-file/ecfs.html. Generally, one copy of an electronic submission must be filed. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

10. Parties who chose to file by paper must file an original and four copies of each filing. The docket number appearing in the caption of this proceeding must appear in each comment or filing. All filings must be sent to the Commission's Secretary, Magalie Roman Salas, Office of the Secretary, Federal Communications Commission, 445 12th Street, SW., Room TW-B204, Washington, DC 20554.

11. For further information, contact the Policy and Rules Branch, Public Safety and Private Wireless Division, Wireless Telecommunications Bureau, (202) 418-0680, TTY (202) 418-7233, or via e-mail at fccinfo@fcc.gov.

A. Ordering Clauses

12. Pursuant to sections 4(i), 4(j), and 303(r) of the Communications Act of 1934, as amended, 47 U.S.C. 154(i), 154(j), and 303(r), notice is hereby given of proposed amendment to §§ 95.193(a), 95.193(b), and 95.631(d) of the Commission's Rules, 47 CFR 95.193(a), 95.193(b), and 95.631(d), as described above.

13. The Petition for Rulemaking, RM-10070, submitted by Garmin International, Inc., on December 26, 2000, is granted to the extent indicated herein.

14. The Commission's Consumer Information Bureau, Reference Information Center, shall send a copy of this Notice of Proposed Rulemaking, including the Initial Regulatory Flexibility Certification, to the Chief Counsel for Advocacy of the Small Business Administration.

List of Subjects in 47 CFR Part 95

Radio.

Federal Communications Commission.
William F. Caton,
Deputy Secretary.

Rule Changes

For the reasons discussed in the preamble, the Federal Communications Commission proposes to amend 47 CFR part 95 as follows:

1. The authority citation for Part 95 continues to read as follows:

Authority: Sections 4, 303, 48 Stat. 1066, 1082 as amended; 47 U.S.C. 154, 303.

2. Section 95.193 is amended by revising paragraphs (a) and (b) to read as follows:

§ 95.193 (FRS Rule 3) Types of communications.

(a) You may use an FRS unit to conduct two-way voice communications with another person. You may use an FRS unit to transmit one-way voice or non-voice communications only to establish communications with another person, send an emergency message, provide traveler assistance, provide location information, make a voice page, or to conduct a brief test.

(b) The FRS unit may transmit tones to make contact or to continue communications with a particular FRS unit. If the tone is audible (more than 300 Hertz), it must be transmitted continuously no longer than 15 seconds at one time. If the tone is subaudible (300 Hertz or less), it may be transmitted continuously only while you are talking. The FRS unit may transmit digital data containing location information. Digital data transmissions shall not exceed one second, must be initiated by a manual key press, and shall be limited to no more than one digital transmission within a ten-second period.

* * * * *

3. Section 95.631 is amended by revising paragraph (d) to read as follows:

§ 95.631 Emission types.

* * * * *

(d) An FRS unit may transmit only emission type F3E or F2D. A non-voice emission is limited to selective calling or tone-operated squelch tones to establish or continue voice communications or digital data transmission of location information.

* * * * *

[FR Doc. 02-787 Filed 1-11-02; 8:45 am]

BILLING CODE 6712-01-P